DEPARTMENT OF THE TREASURY

Office of Foreign Assets Control

Privacy Act of 1974, as Amended, System of Records

AGENCY: Departmental Offices, Treasury.

ACTION: Notice of an amended Privacy Act System of Records.

SUMMARY: In accordance with the requirements of the Privacy Act of 1974, as amended, 5 U.S.C. 552a, the Department of the Treasury, Departmental Offices, gives notice of an amended Privacy Act system of records.

DATES: Effective Date: January 27, 2011.

FOR FURTHER INFORMATION CONTACT: Assistant Director, Disclosure Services, Office of Foreign Assets Control, Department of the Treasury, 1500 Pennsylvania Avenue, NW., Washington, DC 20220, tel.: 202-622-2510 (not a toll free number), or Chief Counsel (Foreign Assets Control), Office of General Counsel, Department of the Treasury, 1500 Pennsylvania Avenue, NW., Washington, DC 20220, tel.: 202-622-2410 (not a toll free number).

SUPPLEMENTARY INFORMATION: The Department of the Treasury published a notice on October 6, 2010, at 75 FR 61853 consolidating three of its system of records (Treasury/DO .111, DO .114 and DO .118) into Treasury/DO .120—Records Related to Office of Foreign Assets Control Economic Sanctions. The system of records manages records related to the implementation, enforcement, and administration of U.S. economic sanctions. No comments pertaining to the notice consolidating the three Office of Foreign Assets Control systems of records were received.

On October 13, 2010, the Department published a proposed rule at 75 FR 62737 to add an exemption from provisions of the Privacy Act pursuant to 5 U.S.C. 552a(k)(1) for certain records maintained in the system of records entitled “Treasury/DO .120—Records Related to Office of Foreign Assets Control Economic Sanctions.” No comments were received with respect to the proposed rule. Accordingly, the Department is altering its system of records notice published on October 6, 2010, to add the exemption permitted by 5 U.S.C. 522a(k)(1).

The Department is also publishing separately in the Federal Register a final rule amending 31 CFR 1.26(g)(6)(ii)(A) and 1.36(e), (f) to add the system of records for which an exemption has been claimed pursuant to 5 U.S.C. 552a(k)(1).

The alteration to the system of records entitled “Treasury/DO .120—Records Related to Office of Foreign Assets Control Economic Sanctions” is set forth below.

Dated: January 7, 2011.
Melissa Hartman,
Deputy Assistant Secretary for Privacy, Transparency, and Records.

Treasury/DO .120

System name:

Records Related to Office of Foreign Assets Control Economic Sanctions.

* * * * *

Exemptions claimed for the system:

Description of change: Remove the current entry and in its place add the following:

“Records in this system related to enforcement, designation, blocking, and other investigations are exempt from 5 U.S.C. 552a(c)(3), (d)(1), (d)(2), (d)(3), (d)(4), (e)(1), (e)(4)(G), (e)(4)(H), (e)(4)(I), and (f) of the Privacy Act pursuant to 5 U.S.C. 552a(k)(1) and (k)(2). See 31 CFR 1.36.”

* * * * *

[FR Doc. 2011-1774 Filed 1-26-11; 8:45 am]

BILLING CODE 4811-45-P